NATIONAL AERONAUTICS AND SPACE ADMINISTRATION

Public Availability of the National Aeronautics and Space Administration FY 2011 Service Contract Inventory

AGENCY: National Aeronautics and Space Administration.

ACTION: Notice of Public Availability of Analysis of the FY 2010 Service Contract Inventories and the FY 2011 Service Contract Inventories.

SUMMARY: In accordance with Section 743 of Division C of the Consolidated Appropriations Act of 2010 (Pub. L. 111-117), National Aeronautics and Space Administration (NASA) is publishing this notice to advise the public of the availability of its analysis of FY 2010 Service Contract inventory and the FY 2011 Service Contract Inventory. This inventory provides information on service contract actions over $25,000 that were made in FY 2011. The information is organized by function to show how contracted resources are distributed throughout the agency. The inventory has been developed in accordance with guidance issued on December 19, 2011 by the Office of Management and Budget's Office of Federal Procurement Policy (OFPP). NASA has posted its analysis of the FY 2010 inventory, the FY 2011 inventory and a summary of the FY 2011 inventory on the NASA Office of Procurement homepage at the following link: http://www.hq.nasa.gov/office/procurement/scinventory/index.html.

Point of contact for this initiative is Sandra Morris (202) 358-0532, Sandra.Morris@nasa.gov.

William McNally,
Assistant Administrator for Procurement.

[FR Doc. 2012-3185 Filed 2-9-12; 8:45 am]

BILLING CODE 7510-01-P